COUNCIL ON ENVIRONMENTAL QUALITY

Economic and Environmental Principles and Guidelines for Water and Related Land Resources Implementation Studies; Extension of Public Comment Period on the Interagency Guidelines

AGENCY: Council on Environmental Quality.

ACTION: Extension of comment period.

SUMMARY: Section 2031 of the Water Resources Development Act of 2007 (Pub. L. 110-114) directed the Secretary of the Army to revise the “Economic and Environmental Principles and Guidelines for Water and Related Land Resources Implementation Studies” (Principles and Guidelines), dated March 10, 1983, consistent with several considerations enumerated in the Act.

The revised Principles and Guidelines consist of three key components: (1) The Principles and Requirements (formerly called Principles and Standards), setting out broad policy and principles that guide investments; (2) the Interagency Guidelines, providing guidance to Federal agencies for determining the applicability of the Principles and Guidelines and for developing agency-specific implementing procedures for formulating, evaluating, and comparing water resources projects, programs, activities, and related actions; and (3) the Agency Specific Procedures, outlining agency-specific procedures for incorporating the Principles and Requirements into agency missions and programs.

Per the March 27, 2013 notice, at 78 FR 18562 interested individuals and organizations are invited to submit comments on the draft Interagency Guidelines, one key component of the Principles and Guidelines. The draft Interagency Guidelines are available for review and comments can be submitted through the Web site, www.whitehouse.gov/administration/eop/ceq/initiatives/PandG/. With this notice, we are pleased to inform you that this comment period (originally 60 days in duration) has been extended by 30 days. The new deadline for public comment on the draft Interagency Guidelines is June 27, 2013.

DATES: Submit comments on or before June 27, 2013.

ADDRESSES: www.whitehouse.gov/administration/eop/ceq/initiatives/PandG.

FOR FURTHER INFORMATION CONTACT: Ilana Cohen, Council on Environmental Quality, at (202) 395-5750.

SUPPLEMENTARY INFORMATION: Section 2031 of the Water Resources Development Act of 2007 (Pub. L. 110-114) directed the Secretary of the Army to revise the “Economic and Environmental Principles and Guidelines for Water and Related Land Resources Implementation Studies,” dated March 10, 1983, consistent with several considerations enumerated in the Act.

Additional information on the revision process is available at http://www.whitehouse.gov/administration/eop/ceq/initiatives/PandG.

Dated: May 17, 2013.
Nancy H. Sutley,
Chair, Council on Environmental Quality.

[FR Doc. 2013-12285 Filed 5-23-13; 8:45 am]

BILLING CODE 3225-F3-P